DEPARTMENT OF VETERANS AFFAIRS

VA Advisory Council on Homelessness Among Veterans

As required by Section 8(a)(2) of the Federal Advisory Committee Act, 5 U.S.C. (App. 1), VA hereby gives notice of the establishment of the Advisory Committee on Homelessness Among Veterans (ACHAV). VA has determined that establishing this Committee is in the public interest.

The purview of the ACHAV includes the policies and programs of the Department of Veterans Affairs' Health Administration Veterans Benefits Administration and interagency actions needed to carry out its Congressionally-mandated programs and services for homeless veterans. ACHAV will provide advice and make recommendations to the Secretary of Veterans Affairs, Director, Homeless Veterans Program Office (DHVPO), Under Secretary for Health and the Under Secretary for Benefits, on the nature and scope of programs, services, collaborative efforts and interagency activities that would promote program improvements to the Veterans Health Administration (VHA), Veterans Benefits Administration (VBA) of the Department of Veterans Affairs.

The Council will consist of 15 members including a Chairperson. Selection criteria will be based on knowledge and expertise in the following areas: (i) Healthcare needs and services; (ii) benefits assistance and outreach; (iii) education and training services; (iv) cooperative services and agreements; (v) mental illness treatment; (vi) permanent and transitional housing with supportive services; (vii) substance abuse; (vii) vocational rehabilitation services; (ix) program monitoring, evaluation and research; and (x) transportation.

Close attention will be given to equitable geographic distribution and to ethnic and gender representation. In addition, ACHAV will include at least one veteran who has actively participated in a comprehensive homeless services program in order to assure that important perspective of veterans. Because the ACHAV performs an ongoing service, its functions will be needed for at least six years.

The Designated Federal Official for the ACHAV is Peter H. Dougherty, Director Homeless Veterans Program Office, phone number: 202-273-5764.

Dated: July 23, 2001.
By Direction of the Secretary.
Nora E. Egan,
Committee Management Officer.

[FR Doc. 01-18949 Filed 7-30-01; 8:45 am]

BILLING CODE 8320-01-M